NATIONAL CREDIT UNION ADMINISTRATION

Sunshine Act; Notice of a Matter To Be Added to the Agenda for Consideration at an Agency Meeting

Time and Date: 11:15 a.m., Thursday, April 29, 2010.

Place: Board Room, 7th Floor, Room 7047, 1775 Duke Street, Alexandria, VA 22314-3428.

Status: Closed.

Matters to be Considered: 1b. Consideration of Supervisory Activities. Closed pursuant to Exemptions (8) and (9)(A)(ii).

2b. Personnel. Closed pursuant to Exemption (2).

FOR FURTHER INFORMATION CONTACT: Mary Rupp, Secretary of the Board, Telephone: 703-518-6304.

Mary Rupp,
Board Secretary.

[FR Doc. 2010-10095 Filed 4-27-10; 4:15 pm]

BILLING CODE P